DEPARTMENT OF THE INTERIOR

Bureau of Safety and Environmental Enforcement

[Docket ID BSEE-2017-0002; 17XE1700DX EEEE500000 EX1SF0000.DAQ000; OMB Control Number 1014-0022]

Agency Information Collection Activities: Oil and Gas and Sulfur Operations in the OCS—General

ACTION: Notice; request for comments.

SUMMARY: To comply with the Paperwork Reduction Act of 1995 (PRA), the Bureau of Safety and Environmental Enforcement (BSEE) is notifying the public that we have submitted to OMB an information collection request (ICR) to renew approval of the paperwork requirements in BSEE's regulations concerning, Oil and Gas and Sulfur Operations in the OCS—General. This notice also provides the public a second opportunity to comment on the revised paperwork burden of these regulatory requirements.

DATES: You must submit comments by September 14, 2017.

ADDRESSES: Submit comments by either fax (202) 395-5806 or email (OIRA_Submission@omb.eop.gov) directly to the Office of Information and Regulatory Affairs, OMB, Attention: Desk Officer for the Department of the Interior (1014-0022). Please provide a copy of your comments to BSEE by any of the means below.

• Electronically go to http://www.regulations.gov. In the Search box, enter BSEE-2017-0002 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference ICR 1014-0022 in your comment and include your name and return address.

FOR FURTHER INFORMATION CONTACT: Nicole Mason, Regulations and Standards Branch, (703) 787-1607, to request additional information about this ICR. To see a copy of the entire ICR submitted to OMB, go to http://www.reginfo.gov (select Information Collection Review, Currently Under Review).

SUPPLEMENTARY INFORMATION: Title: 30 CFR part 250, subpart A, Oil and Gas and Sulfur Operations in the OCS—General.

Form(s): BSEE-0132, BSEE-0143, BSEE-1832.

OMB Control Number: 1014-0022.

Abstract: The Outer Continental Shelf (OCS) Lands Act at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. A request for approval required in 30 CFR 250.171 is subject to cost recovery, and BSEE regulations specify service fees for these requests in 30 CFR 250.125.

The Federal Water Pollution Control Act (33 U.S.C. 1331(j)(1)(C)) authorizes the President to adopt regulations that establish procedures, methods and equipment requirements to prevent oil spills and other hazardous substance discharges from offshore and other facilities. The regulatory authority for offshore facilities has been delegated to the Secretary and further delegated by the Secretary to BSEE. The regulations at 30 CFR part 250, subpart A, require compliance with all applicable BSEE regulations, including those intended to prevent or reduce discharges of oil and other hazardous substances. These authorities and responsibilities are among those delegated to BSEE. The regulations at 30 CFR part 250, subpart A, concern the general regulatory requirements of oil, gas, and sulfur operations in the OCS (including the associated forms), and are the subject of this collection. This request also covers any related Notices to Lessees and Operators (NTLs) that BSEE issues to clarify, supplement, or provide additional guidance on some aspects of our regulations.

The BSEE uses the information collected under the Subpart A regulations to ensure that operations on the OCS are carried out in a safe and pollution-free manner, do not interfere with the rights of other users on the OCS, and balance the protection and development of OCS resources. Specifically, we use the information collected to:

• Review records of formal crane operator and rigger training, crane operator qualifications, crane inspections, testing, and maintenance to ensure that lessees/operators perform operations in a safe and workmanlike manner and that equipment is maintained in a safe condition. The BSEE also uses the information to make certain that all new and existing cranes installed on OCS fixed platforms must be equipped with anti-two block safety devices, and to assure that uniform methods are employed by lessees for load testing of cranes.

• Review welding plans, procedures, and records to ensure that welding is conducted in a safe and workmanlike manner by trained and experienced personnel.

• Provide lessees/operators greater flexibility to comply with regulatory requirements through approval of alternative equipment or procedures and departures to regulations if they demonstrate equal or better compliance with the appropriate performance standards.

• Ensure that injection of gas promotes conservation of natural resources and prevents waste.

• Record the agent and local agent empowered to receive notices and comply with regulatory orders issued.

• Provide for orderly development of leases through the use of information to determine the appropriateness of lessee/operator requests for suspension of operations, including production.

• Improve safety and environmental protection on the OCS through collection and analysis of accident reports to ascertain the cause of the accidents and to determine ways to prevent recurrences.

• Ascertain when the lease ceases production or when the last well ceases production in order to determine the 180th day after the date of completion of the last production. The BSEE will use this information to efficiently maintain the lessee/operator lease status.

• Allow lessees/operators who exhibit unacceptable performance an incremental approach to improving their overall performance prior to a final decision to disqualify a lessee/operator or to pursue debarment proceedings through the execution of a performance improvement plan (PIP). The Subpart A regulations do not address the actual process that we will follow in pursuing the disqualification of operators under §§ 250.135 and 250.136; however, our internal enforcement procedures include allowing such operators to demonstrate a commitment to acceptable performance by the submission of a PIP.

The forms associated with this information collection request are as follows:

The BSEE Environmental Compliance Division has decided to discontinue use of BSEE Form-0011, Internet Based Safety and Environmental Enforcement Reporting System (Isee), due to an evolving program and changes in management. The information submitted under § 250.193 instructs the public on what information and where to submit possible violations making the form obsolete.

Form BSEE-1832, Incident(s) of Noncompliance (INCs), is used to determine that respondents have corrected all incident(s) of noncompliance identified during inspections. Everything on the INC form is filled out by a BSEE inspector/representative. Industry is only required to sign this form upon receipt and respond to BSEE when each INC has been corrected, no later than 14 days from the date of issuance.

Form BSEE-0132, Hurricane and Tropical Storm Evacuation and Production Curtailment Statistics, is used in the Gulf of Mexico OCS Region (GOMR) to obtain general information, such as company name, contact, date, time, telephone number; as well as number of platforms and drilling rigs evacuated and not evacuated, and production shut-in statistics for oil (BOPD) and gas (MMSCFD).

Form BSEE-0143, Facility/Equipment Damage Report, is used to assess initial damage to a structure or equipment and then be aware of changes until the damaged structure or equipment is returned to service, as well as to assess the production rate at time of shut-in (BPD and/or MMCFPD), cumulative production shut-in (BPD and/or MMCFPD), and estimated time to return to service (in days).

Most responses are mandatory, while others are required to obtain or retain benefits, or are voluntary. No questions of a sensitive nature are asked. The BSEE protects information considered proprietary under the Freedom of Information Act (5 U.S.C. 552) and DOI's implementing regulations (43 CFR part 2), and under regulations at 30 CFR 250.197, Data and information to be made available to the public or for limited inspection, and 30 CFR part 252, OCS Oil and Gas Information Program.

Frequency: On occasion, daily, weekly, monthly, and varies by section.

Description of Respondents: Potential respondents comprise Federal OCS oil, gas, or sulfur lessees and/or operators and holders of pipeline rights-of-way.

Estimated Reporting and Recordkeeping Hour Burden: The estimated annual hour burden for this information collection is a total of 99,866 hours and $222,915 non-hour costs. The following chart details the individual components and estimated hour burdens. In calculating the burdens, we assumed that respondents perform certain requirements in the normal course of their activities. We consider these to be usual and customary and took that into account in estimating the burden.

Burden Breakdown
Citation 30 CFR 250 Subpart A; related forms/NTLs | Reporting or recordkeeping requirement* | Non-Hour cost burdens: Hour burden | Non-Hour cost burdens: Average number of annual responses | Non-Hour cost burdens: Annual burden hours (rounded)
104; Form BSEE-1832 | Appeal orders or decisions; appeal INCs | Exempt under 5 CFR 1320.4(a)(2), (c) |  | 0
107(c) | Request waiver by demonstrating the use for BAST would not be practicable | 8 | 2 justifications | 16
108(e) | Retain records of design and construction for life of crane, including installation records for any anti-two block safety devices; all inspection, testing, and maintenance for at least 4 years; crane operator and all rigger personnel qualifications for at least 4 years; all records must be kept at the OCS fixed platform | 7 | 2,011 record-keepers | 14,077
109(a); 110 | Submit welding, burning, and hot tapping plans | 9 | 51 plans | 459
109(b); 113(c) | Retain welding plan & approval letter, and drawings of safe-welding areas at site; designated person advises in writing that it is safe to weld | 3 | 948 operations | 2,844
118; 121; 124 | Apply for injection of gas; use BSEE-approved formula to determine original gas from injected | 10 | 6 applications | 60
125; 126 | Cost Recovery Fees, confirmation receipt, etc.; verbal approvals pertaining to fees | Cost Recovery Fees and related items are covered individually throughout Subpart A |  | 0
130-133 (Form BSEE-1832) | Submit “green” response copy of Form BSEE-1832, INC(s), indicating date violations corrected; or submit same info via electronic reporting | 3 | 2,802 forms | 8,406
130-133 | Request reconsideration from issuance of an INC | 7 | 274 requests | 1,918
| Request waiver of 14-day response time | 1 | 1,572 waivers | 1,572
| Notify BSEE before returning to operations if shut-in | 1 | 1,356 notices | 1,356
132(b)(3) | During inspections, make records available as requested by inspectors | 4 | 4,554 requests | 18,216
133, NTL | Request reimbursement within 90 days of inspection for food, quarters, and transportation, provided to BSEE representatives. Submit supporting verifications of the meals, such as a meal log w/inspectors signature | 2 | 2 requests | 4
135 | Submit PIP under BSEE implementing procedures for enforcement actions | 40 | 4 plans | 160
140 | Request various oral approvals not specifically covered elsewhere in regulatory requirements | 2 | 346 requests | 692
140(c) | Submit letter when stopping approved flaring with required information | Burden covered under 30 CFR Part 250, Subpart K (1014-0019) |  | 0
141; 198 | Request approval to use new or alternative procedures, along with supporting documentation if applicable, including BAST not specifically covered elsewhere in regulatory requirements | 22 | 1,430 requests | 31,460
142; 198 | Request approval of departure from operating requirements not specifically covered elsewhere in regulatory requirements, along with supporting documentation if applicable | 4 | 405 requests | 1,620
145 | Submit designation of agent and local agent for Regional Supervisor's and/or Regional Director's approval | 1 | 9 submittals | 9
150; 151; 152; 154(a) | Name and identify facilities, artificial islands, MODUs, helo landing facilities etc., with signs | 4 | 597 new/replacement signs | 2,388
150; 154(b) | Name and identify wells with signs | 2 | 286 new wells | 572
168; 171; 172; 174; 175; 177; 180(b), (d) | Request suspension of operation or production; submit schedule of work leading to commencement; supporting information; include pay.gov confirmation receipt | 11 | 105 requests | 1,155
|  | $2,123 fee × 105 = $222,915
| Submit progress reports on a suspension of operation or production as condition of approval | 3 | 240 reports | 720
172(b); 177(a) | Conduct site-specific study; submit results; request payment by another party. No instances requiring this study in several years—could be necessary if a situation occurred such as severe damage to a platform or structure caused by a hurricane or a vessel collision | 106 | 1 study/report | 106
177(b), (c), (d) | Various references to submitting new, revised, or modified exploration plan, development/production plan, or development operations coordination document | Burden covered under BOEM's 30 CFR Part 550, Subpart B (1010-0151) |  | 0
180(a), (h), (i), | Notify and submit report on various lease-holding operations and lease production activities | 1.5 | 63 reports or notices | 95
180(e), (j) | Request more than 180 days to resume operations; notify BSEE if operations do not begin within 180 days | 3 0.5 | 3 requests/notifications | 9 2
180(f), (g), (h), (i) | Submit various operation and production data to demonstrate production in paying quantities to maintain lease beyond primary term; notify BSEE when you begin conducting operations beyond its primary term | 3 0.5 | 384 submission/notifications | 1,152 192
186; NTL | Submit information and reports, as BSEE requires | 12 | 202 Submittals | 2,424
186(a)(3); NTL | Apply to receive administrative entitlements to eWell (electronic/digital form submittals) | Not considered information collection under 5 CFR 1320.3(h)(1) |  | 0
187; 188; 189; 190; 192; NTL | Report to the District Manager immediately via oral communication and written follow-up within 15-calendar days, incidents pertaining to: fatalities; injuries; LoWC; fires; explosions; all collisions resulting in property or equipment damage >$25K; structural damage to an OCS facility; cranes; incidents that damage or disable safety systems or equipment (including firefighting systems); include hurricane reports such as platform/rig evacuation, rig damage, P/L damage, and platform damage; operations personnel to muster for evacuation not related to weather or drills; any additional information required. If requested, submit copy marked as public information FOR ALASKA: Report sea ice movement/conditions; start and termination of ice management activities; kicks or unexpected operational issues. Submit a written report within 24 hours after completing ice management activities | 1.5 Oral 4 Written | 505 Oral reports 671 Written reports | 758 2,684
187(d) | Report all spills of oil or other liquid pollutants | Burden covered under 30 CFR Part 254 (1014-0007) |  | 0
188(a)(5) | Report to District Manager hydrogen sulfide (H2S) gas releases immediately by oral communication | Burden covered under 30 CFR Part 250, Subpart D (1014-0018) |  | 0
191 | Submit written statement/Request compensation mileage and services for testimony re: accident investigation | Exempt under 5 CFR 1320.4(a)(2), (c) |  | 0
192 (Form BSEE-0132) | Daily report of evacuation statistics for natural occurrence/hurricane (GOMR Form BSEE-0132 (form takes 1 hour)) when circumstances warrant; inform BSEE when you resume production | 3 | 884 reports or forms | 2,652
192(b) (Form BSEE-0143) | Use Form BSEE-0143 to submit an initial damage report to the Regional Supervisor | 3 | 4 forms | 12
192(b) (Form BSEE-0143) | Use Form BSEE-0143 to submit subsequent damage reports on a monthly basis until damaged structure or equipment is returned to service; immediately when information changes; date item returned to service must be in final report | 1 | 4 forms | 4
193 | Report apparent violations or non-compliance | 1.5 | 6 reports | 9
194(c) | Report archaeological discoveries | 3 | 7 reports | 21
195 | Notify District Manager within 5 workdays of putting well in production status (usually oral). Follow-up with either fax/email within same 5 day period (burden includes oral and written) | 1 | 2,040 notifications | 2,040
196 | Request reimbursement of reproduction and processing costs of G&G data/information requested by the Regional Director | 1 | 1 request | 1
197(c) | Submit confidentiality agreement | 1 | 1 submittal | 1
Total Burden |  |  | 21,776 Responses | 99,866 Hours.
|  |  | $222,915 Non-Hour Cost Burden.
* In the future, BSEE may require electronic filing of some submissions.

Estimated Reporting and Recordkeeping Non-Hour Cost Burden: We have identified one non-hour cost burden. Requests for a Suspension of Operation or a Suspension of Production (§ 250.171) require a cost recovery fee of $2,123. We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on March 15, 2017, we published a Federal Register notice (82 FR 13846) announcing that we would submit this ICR to OMB for approval. The notice provided the required 60-day comment period. In addition, § 250.199 provides the OMB Control Number for the information collection requirements imposed by the 30 CFR 250, Subpart A regulations and forms. The regulation also informs the public that they may comment at any time on the collections of information and provides the address to which they should send comments. Between the last collection submitted and this collection, we received eight comments from private citizens. None of the comments received were germane to this collection of information.

Public Availability of Comments: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Nicole Mason, (703) 787-1607.

Dated: July 13, 2017.
Doug Morris,
Chief, Office of Offshore Regulatory Programs.

[FR Doc. 2017-17209 Filed 8-14-17; 8:45 am]

BILLING CODE 4310-VH-P